DEPARTMENT OF TRANSPORTATION

Federal Highway Administration

Federal Transit Administration

Environmental Impact Statement: Tappan Zee Bridge/I-287 Corridor Between Suffern, NY (Rockland County) and Port Chester, NY (Westchester County)

AGENCIES: Federal Highway Administration (FHWA) and Federal Transit Administration (FTA), United States Department of Transportation (DOT).

ACTION: Revised Notice of Intent.

SUMMARY: The FHWA and FTA are jointly issuing this Revised Notice of Intent (NOI) to advise the public of modifications to the environmental review process for the Tappan Zee Bridge/I-287 Corridor Environmental Impact Statement (EIS). These revisions include the intent of FHWA and FTA to use a tiered process to facilitate project decision-making, and the intent of FHWA and FTA to utilize the environmental review provisions afforded under Section 6002 of the Safe, Accountable, Flexible, Efficient Transportation Equity Act: A Legacy for Users (SAFETEA-LU). The EIS will build upon the extensive alternatives analysis, environmental and technical studies and public comments and outreach conducted to date, which are available online at the project's Web site (www.tzbsite.com). This NOI revises the NOI that was published in the Federal Register on December 23, 2002.

The proposed tiering approach will allow the joint lead agencies to focus on both broad overall corridor issues in a Tier 1 transit analysis of general alignment and mode choice while simultaneously assessing site specific impacts, costs and mitigation measures in a Tier 2 bridge and highway analysis. The scope of analysis in the Tier 1 and Tier 2 will be appropriate to the level of detail necessary for those documents and will receive input from the public and reviewing agencies. The intent of the joint lead agencies is for the Tier 1 and Tier 2 analyses to be developed concurrently in order to maximize the efficiencies and potential for multimodal solutions.

The Tier 1 transit analysis will provide the basis for a corridor level decision on transit mode(s), alignment(s), and logical termini within the Corridor and sufficient detail of impact assessments and preliminary engineering to allow the Tier 2 highway and bridge elements to proceed to final design and construction. Because the transportation needs of the corridor require a multimodal solution, the highway, bridge, and transit elements are intricately tied to one another and require iterative and concurrent development, analysis and consideration up to the decision on mode and alignment. Once the transit mode and alignment decisions are made, the analysis can focus on the needs of the corridor which includes the structural needs of the existing Tappan Zee Bridge and associated highway network, while preserving the transit corridor within the existing right of way.

Additional purposes of this revised NOI are to:

• Advise the public of lead agency roles.

• Outline how the provisions of SAFETEA-LU Section 6002 will be met.

• Update interested parties regarding the current approach to preparing the EIS.

• Provide updated information on the proposed project, purpose and need for the project, and range of alternatives.

• Re-invite participation in the EIS process, including comments on the refined scope of the EIS proposed in this notice.

• Announce the dates, times and locations of upcoming scoping update meetings.

FOR FURTHER INFORMATION CONTACT: Michael P. Anderson, Project Director, NYSDOT, 660 White Plains Road, Suite 340, Tarrytown, NY 10591, Telephone: (914) 358-0600; or Willet Schraft, Senior Operations Engineer, FHWA, New York Division, Leo W. O'Brien Federal Building, 7th Floor, Clinton Avenue and North Pearl Street, Albany, NY 12207, Telephone: (518) 431-4125; or Donald Burns, Senior Planner, FTA, One Bowling Green, Room 429, New York, NY 10004, Telephone: (212) 668-2170.

SUPPLEMENTARY INFORMATION: On December 23, 2002, the FHWA and FTA, in cooperation with the New York State Thruway Authority (NYSTA) and the Metro-North Railroad, a subsidiary of the Metropolitan Transportation Authority (MTA/MNR) issued a Notice of Intent to prepare an Alternatives Analysis (AA) and an Environmental Impact Statement (EIS) for the I-287 Corridor in Westchester and Rockland Counties, NY (FR Volume 67, No. 246). Extensive AA public involvement activity has been conducted since publication of that NOI such that a revised tiered approach is warranted. Of considerable note, is that the New York State Department of Transportation (NYSDOT) has become a sponsoring agency and taken on the role of lead State project manager. As a sponsoring agency, NYSDOT, as well as NYSTA and MTA/MNR, are considered Joint Lead Agencies for the project under SAFETEA-LU.

1. Scoping

In January 2003, after the December 2002 NOI was published, three scoping meetings were held: one in Westchester County; one in Rockland County; and one in Orange County. Public and agency comments received during those scoping meetings have been incorporated into the AA. As a result of the initial scoping process which included a Level 1 and Level 2 alternatives screening process, the alternatives have been reduced from 150 alternative elements to six alternatives. As a result of the changes in the project conditions and approach that have precipitated the issuance of this revised NOI, scoping update meetings will be conducted to obtain current comments on the scope of the EIS. To assist interested parties in formulating their comments, a scoping informational packet will be prepared and made available upon request from the NYSDOT representative identified above or online at the project's Web site (www.tzbsite.com). The scoping packet will include the project's purpose and need, goals and objectives, range of alternatives, environmental issues that will be addressed during the course of the study and the public and agency coordination plan, pursuant to SAFETEA-LU. In addition, the scoping packet will include the evaluation criteria that will be used to conduct a third level (“Level 3”) alternatives screening process, which will further analyze the remaining alternatives.

In early 2008, three additional public scoping update meetings will be conducted, one each in Westchester, Rockland and Orange Counties, to solicit additional public comments on the scope of the EIS. Each meeting will run from 4 to 9 p.m. and consist of an informal open house setting and two formal presentations. Formal presentations will be made at 5 p.m. and again at 7 p.m. After each presentation, the public will be provided the opportunity to comment. Those wishing to speak must sign up by either 5:30 p.m. or 7:30 p.m., respectively. A court reporter will be available to record the formal meeting and public comments. The public meetings will be held in the following locations:

Westchester County Public Scoping Update Meeting: Tuesday, February 26, 2008, The Performing Arts Center, Purchase College, State University of New York, 735 Anderson Hill Road, Purchase, NY 10577

Orange County Public Scoping Update Meeting: Wednesday, February 27, 2008, Orange-Ulster BOCES Campus, 53 Gibson Road, Goshen, NY 10924

Rockland County Public Scoping Update Meeting: Thursday, February 28, 2008, the Palisades Center, 1000 Palisades Center Drive, West Nyack, NY 10994.

The public comment period will be open for a maximum of 30 days following the February 28 meeting. Comments will be accepted until Monday, March 31, 2008.

Written comments on the scope of the project can be sent to Michael P. Anderson, Project Director, NYSDOT, Tappan Zee Bridge/I-287 Project Office, 660 White Plains Road, Suite 340, Tarrytown, NY 10591 (Telephone: (914) 358-0600). The meetings will be accessible to persons with disabilities. If special needs such as an interpreter or sign language services are needed please contact Michael P. Anderson.

2. Description of the Project Area

The Tappan Zee Bridge/I-287 Corridor (Corridor) is approximately 30 miles in length, extending from the I-87/I-287 Interchange in Suffern, NY to the I-287/I-95 interchange in Port Chester, NY and includes the Tappan Zee Bridge. Maintained by NYSTA, the Corridor encompasses the entire length of the Cross Westchester Expressway (CWE) in Westchester County, connecting two of the most rapidly growing communities in the New York region, Rockland and Orange County with Westchester County, a major employment destination just east of the Hudson River. The Corridor also intersects with the five MTA/MNR commuter rail lines (Port Jervis, Pascack Valley, Hudson, Harlem and New Haven) which run north-south and none of which are oriented east-west through the Corridor or cross the Hudson River. The Corridor is serviced in the east-west direction through the following bus services, the Tappan ZEExpress, Orange Westchester Link (OWL) and other bus services.

3. Purpose and Need

The purpose and need of the project is to address the transportation safety, mobility and capacity needs of the Tappan Zee Bridge/I-287 Corridor. At the conclusion of the scoping process, the EIS will continue to evaluate the multimodal alternatives that meet the purpose and need of the project. Of particular concern is the structural design and integrity of the Tappan Zee Bridge, a vital infrastructure element in the regional and national transportation network. Numerous goals and objectives for proposed improvements have been developed and refined through public and agency coordination since inception of the original NOI in 2002. Primary goals include providing improved transit service within the Corridor including connections to existing transit service, decreasing congestion and travel times within the Corridor, and addressing the structural integrity and traffic safety of the Tappan Zee Bridge. Further refinement or modification to these goals and objectives and the purpose and needs of the project may be made by the joint lead agencies once the scoping update meetings have been conducted and comments received.

When opened to traffic in 1955, the Tappan Zee Bridge carried approximately 18,000 vehicles. Today, the bridge carries approximately 135,000 vehicles daily with volumes as high as 170,000 on some peak days. During the past 20 years, traffic volumes have grown significantly in the Corridor, by over 50 percent on the CWE and by more than 70 percent on the Tappan Zee Bridge. As a result, the Corridor experiences varying levels of traffic congestion throughout the 30-mile length. The steady increase in traffic demand over the years, together with only limited increases in roadway capacity and limited east-west modal alternatives, have resulted in continual increases in travel time and delay. The problems are most severe during the eastbound morning peak and the westbound evening peak periods, particularly within the vicinity of the Tappan Zee Bridge.

The Tappan Zee Bridge has non-standard safety features, narrow lane widths (11 feet 8 inches), no shoulders and a narrow median; operates at or near full capacity in the peak hours; has long periods of stop and go traffic; areas of notable traffic turbulence and an average collision rate four times greater than the average rate (per million vehicle miles), when compared to the whole of the Thruway system. On the highway segment of the corridor, 39 locations on the mainline and various entrance and exit ramps have accident rates in excess of statewide averages.

In addition to its capacity constraints, the structural design and integrity of the bridge requires consideration. While the structural condition is safe to the public, several structural deficiencies also need to be addressed. The bridge is located in a moderate seismically active zone, and was not designed in accordance with the current seismic code. The seismic vulnerability of the bridge is an area of great importance to the project.

Today bus transit, car and van pools operate in mixed traffic and are subject to the same congestion and travel delays. The bridge's current capacity constraints do not allow for dedicated lanes that would accommodate higher capacity vehicles and increased transit bus services. One of the most significant findings in the AA analysis to date is that traffic forecasts clearly demonstrate a demand for travel in the corridor that cannot be accommodated by highway improvements alone. The need to include transit improvements in the corridor is strongly indicated.

As a result of these conditions, the EIS will evaluate alternatives that address the following needs of the Corridor:

• Preserve the existing river crossing as a vital link in the regional and national transportation network

• Provide a river crossing that has structural integrity, meets current design criteria and standards, and accommodates transit

• Improve highway safety, mobility, and capacity throughout the Corridor

• Improve transit mobility and capacity throughout the Corridor and travel connections to the existing north-south and east-west transit network

4. Alternatives

The alternatives under consideration involve different combinations of bridge, highway and transit elements. Transit modes currently undergoing additional evaluation as a result of ongoing analysis include the Bus Rapid Transit (BRT), Light Rail Transit (LRT), and Commuter Rail (CRT). The Alternatives Analysis Report issued in 2006 identified six alternatives for further study in the EIS. These six alternatives were the result of Level 1 and Level 2 alternatives screening and include the following:

• No Build Alternative

• Bridge Rehabilitation with Transportation Demand Management (TDM) and Transportation Systems Management (TSM) measures

• Full Corridor BRT with a new bridge and highway improvements in Rockland County

• Manhattan-bound Full Corridor CRT with a new bridge and highway improvements in Rockland County

• Manhattan-bound CRT with LRT in Westchester County, a new bridge, and highway improvements in Rockland County

• Manhattan-bound CRT with BRT in Westchester County, a new bridge, and highway improvements in Rockland County

The above six alternatives are currently still under evaluation. However, the EIS will include the results of a Level 3 alternatives screening which may result in the elimination, combination or modification of one or more of the alternatives considered to date. The evaluation criteria used to conduct this further screening will be made available for public and agency comment and finalized as part of the scoping process, consistent with the refined and updated purpose and needs, goals, and objectives. If the Level 3 alternatives screening results in the elimination, combination or modification of one or more of the alternatives, this will be disclosed as part of the revised environmental review process and documented in the EIS, affording the opportunity for public and agency review and comment during the DEIS public hearings. Alternatives retained for full evaluation in the EIS will be compared to the baseline conditions of the No Build Alternative in terms of their social, economic, and environmental impacts.

5. Probable Effects

The environmental impact assessment of alternatives will be conducted at various levels of detail throughout the environmental review process. In the initial alternatives screening phases of the project conducted to date, the analysis has focused on major differentiating factors amongst the bridge, highway, and transit elements and alignments. This level of analysis will continue in the Level 3 alternatives screening process and will be documented in a Scoping Update Summary Report to be developed. As alternatives are screened to a reasonable range for detailed study in the DEIS, the analysis will become more detailed and dependent upon additional studies and reports.

Specifically, the DEIS and FEIS will: summarize the results of coordination with federal, state, and local agencies and the public at large; present the appropriate federal, state, and local regulations and policies; inventory and compile previous studies; describe the methodology used to assess impacts; identify the affected environment; predict and analyze the construction-related (short-term) and operational (long-term) impacts (direct, indirect, and cumulative) of reasonable alternatives; and identify opportunities and measures for mitigating significant adverse impacts. Specific scopes for the environmental studies to be used in the Level 3 alternatives screening process and subsequent tiered analysis in the DEIS and FEIS will be established during the public and agency scoping update process.

6. FHWA and FTA Procedures

The EIS is being prepared in accordance with the National Environmental Policy Act of 1969 (NEPA), as amended, and implemented by the Council on Environmental Quality (CEQ) regulations (40 CFR parts 1500-1508), the FHWA/FTA Environmental Impact regulations (23 CFR part 771), and the FHWA/FTA Statewide Planning/Metropolitan Planning regulations (23 CFR part 450), as well as the requirements of Section 6002 of SAFETEA-LU. In addition, this EIS will comply with the requirements of the National Historic Preservation Act of 1966, as amended, section 4(f) of the 1966, U.S. Department of Transportation Act, the 1990 Clean Air Act Amendments, Executive Order 12898 on Environmental Justice, Executive Order 11990 Protection of Wetlands, and other applicable statutes, rules, and regulations. The EIS and the environmental review process will also satisfy requirements of the New York State Environmental Quality Review Act (SEQRA) (consistent with 6 NYCRR 617.15 and SEQRA regulations, Part 15 Title 17 of NYCRR); this NOI eliminates the need for a positive declaration under that statute.

Regulations implementing NEPA (40 CFR 1500-1508), as well as certain provisions of SAFETEA-LU, call for enhanced agency and public involvement in the EIS process. Several of the pertinent provisions of Section 6002 of SAFETEA-LU that are reflected in the revised approach to the processing of the EIS include: (1) Extend an invitation to other Federal and non-Federal agencies and Native American tribes that may have an interest in the proposed project to become “Participating Agencies”; (2) Provide an opportunity for involvement in helping to develop the purpose and need for the proposed project, as well as the range of alternatives for consideration in the EIS, and analysis methodologies and level of detail in any such analysis; and (3) Establish a plan for coordinating public and agency participation and comment on the environmental review process. As related to item 3, while the project already has a public and agency coordination plan, it was developed pre-SAFETEA-LU and will be amended to reflect specific requirements set forth in Section 6002 of that legislation. An invitation to all Federal and non-Federal agencies and Native American tribes that may have an interest in the proposed project will be extended. In the event that an agency or tribe is not invited and would like to participate, please contact the Project Manager listed under Contact Information above. A Coordination Plan will be developed summarizing how the public and agencies will be engaged in the process. This plan will be posted to the project Web site (www.tzbsite.com). The public coordination and outreach efforts will include public meetings, open houses, a project Web site, Stakeholder Advisory Work Groups, and public hearings.

Compatible with and contributing to the functionality of the overall project, some elements of the Build Alternatives may be functionally independent of other elements. Although the current plan is to evaluate all of these geographically contiguous elements of the alternatives retained for evaluation in the EIS, as the project elements are developed and as schedules and construction phasing plans develop, it is possible that some of the independent elements may be advanced via separate environmental evaluations under NEPA and SEQRA. In addition, New Starts funding may be pursued for a transit component of the proposed project under 49 U.S.C. 5309. If so, any such transit component identified in the Tier 1 analysis of this would be a separate project subject to additional Tier 2 level NEPA environmental review and New Starts regulations (49 CFR Part 611).

The project sponsors may identify a preferred alternative in the Draft EIS when made available for public and agency comment. Public hearings on the Draft EIS will be held within the study area. On the basis of the Draft EIS and the public and agency comments received, the design of the preferred alternative and other feasible alternatives will be further refined in the Final EIS. The Joint Lead Agencies will identify the preferred alternative in the Final EIS and the Final EIS will serve as the basis for federal environmental findings and determinations needed to conclude the environmental review process related to:

• Tier 1 analysis findings on the transit mode and alignment associated with the preferred alternative.

• Tier 2 analysis findings on the bridge facilities and transit elements from the Tier 1 analysis, approaches and associated highway network improvements within the Corridor associated with the preferred alternative.

(Catalog of Federal Domestic Assistance Program Number 20.205, Highway Planning and Construction. The regulations implementing Executive Order 12372 regarding intergovernmental consultation on Federal programs and activities apply to this program.)

Jeffrey Kolb, New York Division Administrator, Federal Highway Administration, Leo W. O'Brien Building, 7th Floor, Clinton Avenue and North Pearl Street, Albany, NY 12207.

Brigid Hynes-Cherin, Region II Administrator, Federal Transit Administration, One Bowling Green, Room 429, New York, NY 10004.

Dated: February 6, 2008.
Jeffrey W. Kolb,
New York Division Administrator, Federal Highway Administration.
Brigid Hynes-Cherin,
Region II Administrator, Federal Transit Administration.

[FR Doc. E8-2741 Filed 2-13-08; 8:45 am]

BILLING CODE 4910-22-P